DEPARTMENT OF ENERGY

Federal Energy Regulatory Commission

Combined Notice of Filings #1

Take notice that the Commission received the following electric corporate filings:

Docket Numbers: EC12-92-000.

Applicants: Noble Americas Gas & Power Corp., Eagle Point Power Generation LLC.

Description: Application for Approval Pursuant to Section 203 of the Federal Power Act, Request for Expedited Consideration and Request for Privileged Treatment of Eagle Point Power Generation LLC, et al.

Filed Date: 4/4/12.

Accession Number: 20120404-5227.

Comments Due: 5 p.m. ET 4/25/12.

Take notice that the Commission received the following electric rate filings:

Docket Numbers: ER12-1120-001.

Applicants: ITC Midwest LLC.

Description: Amendment Filing to be effective 4/19/2012.

Filed Date: 4/4/12.

Accession Number: 20120404-5177.

Comments Due: 5 p.m. ET 4/25/12.

Docket Numbers: ER12-1445-000.

Applicants: PJM Interconnection, L.L.C.

Description: Ministerial Clean-Up Filing due to Overlapping Filings to be effective 2/18/2012.

Filed Date: 4/4/12.

Accession Number: 20120404-5195.

Comments Due: 5 p.m. ET 4/25/12.

Docket Numbers: ER12-1446-000.

Applicants: PacifiCorp.

Description: Tariff Volume 4—Compliance Filing to be effective 4/4/2012.

Filed Date: 4/4/12.

Accession Number: 20120404-5204.

Comments Due: 5 p.m. ET 4/25/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 5, 2012.
Nathaniel J. Davis, Sr.,
Deputy Secretary.

[FR Doc. 2012-8955 Filed 4-12-12; 8:45 am]

BILLING CODE 6717-01-P